FEDERAL TRADE COMMISSION

Sunshine Act Meeting Notice

AGENCY: Federal Trade Commission.

Time and Date: 2 p.m., Monday, November 4, 2002.

Place: Federal Trade Commission Building, Room 532, 6th Street and Pennsylvania Avenue, NW., Washington, DC 20580.

Status: Parts of this meeting will be open to the public. The rest of the meeting will be closed to the public.

Matters to be Considered: Portions Open to Public:

(1) Oral argument in Polygram Holding et al. Docket 9298.

Portions Closed to the Public:

(2) Executive session to follow oral argument in Polygram Holding, et al. Docket 9298.

FOR FURTHER INFORMATION CONTACT: Mitch Katz, Office of Public Affairs: (202) 326-2180, Recorded Message: (202) 326-2711.

Donald S. Clark,
Secretary.

[FR Doc. 02-25755 Filed 10-7-02; 9:28 am]

BILLING CODE 6750-01-M